DEPARTMENT OF JUSTICE

Notice of Lodging of Consent Decree Under the Clean Air Act

Notice is hereby given that on March 28, 2012, a proposed Consent Decree (“Consent Decree”) in U.S. v. Coltec Industries, Inc., et al., Civil Action No. 1:10-cv-01659-ABJ, was lodged with the United States District Court for the District of Columbia.

In this action the United States, acting on behalf of the U.S. Environmental Protection Agency, filed a Complaint against Coltec Industries, Inc., a marine compression-ignition engine manufacturer, and National Steel and Shipbuilding Company, a marine vessel manufacturer (“Settling Defendants”), seeking civil penalties and injunctive relief for alleged non-compliance with Section 213 of the Clean Air Act, as amended, 42 U.S.C. 7547, and its implementing Marine Compression-Ignition Rules, at 40 CFR part 94. The Complaint alleges that Settling Defendants failed to comply with the certificate of conformity requirements by manufacturing or using uncertified and/or unlabeled or defectively labeled marine diesel engines in their respective operations.

The Consent Decree requires Settling Defendants to pay a $280,000 civil penalty to the United States. Settling Defendants will perform a Supplemental Environmental Project at an estimated cost of $500,000, which involves the installation of Selective Catalytic Reduction emissions control technology at a marine engine test stand operated at Settling Defendant Coltec Industries, Inc.'s marine engine manufacturing facility in Beloit, Wisconsin. They have also agreed to label or re-label the engines at issue in the Complaint with special certification labels that require Settling Defendants to treat the engines at issue as if they were originally certified under the Marine CI Engine Regulations, including complying with all applicable maintenance, repair, adjustment and recordkeeping requirements.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to U.S. v. Coltec Industries, Inc., et al., Civil Action No. 1:10-cv-01659-ABJ, D.J. Ref. 90-5-2-1-09942.

During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $13.00 (25 cents per page reproduction cost) payable to the U.S. Treasury or, if requesting by email or fax, forward a check in that amount to the Consent Decree Library at the address given above.

Karen Dworkin,
Assistant Chief, Environmental Enforcement Section, Environment and Natural Resources Division.

[FR Doc. 2012-8334 Filed 4-5-12; 8:45 am]

BILLING CODE 4410-15-P